DEPARTMENT OF TRANSPORTATION

Federal Aviation Administration

Notice of Intent To Rule on Application 03-04-C-00-PIB To Impose and Use the Revenue From a Passenger Facility Charge (PFC) at Hattiesburg-Laurel Regional Airport, Hattiesburg, MS

AGENCY: Federal Aviation Administration (FAA), DOT.

ACTION: Notice of intent to rule on application.

SUMMARY: The FAA proposes to rule and invites public comment on the application to impose and use the revenue from a PFC at Hattiesburg-Laurel Regional Airport under the provisions of the 49 U.S.C. 40117 and part 158 of the Federal Aviation Regulations (14 CFR part 158).

DATES: Comments must be received on or before October 27, 2003.

ADDRESSES: Comments on this application may be mailed or delivered in triplicate to the FAA at the following address: FAA/Airports District Office, 100 West Cross Street, Suite B, Jackson, MS 39208-2307.

In addition, one copy of any comments submitted to the FAA must be mailed or delivered to Mr. Tomas E. Heanue, Executive Director of the Hattiesburg-Laurel Regional Airport Authority at the following address: 1002 Terminal Drive, Moselle, MS 39459.

Air carriers and foreign air carriers may submit copies of written comments previously provided to the Hattiesburg-Laurel Regional Airport Authority under § 158.23 of part 158.

FOR FURTHER INFORMATION CONTACT: Patrick D. Vaught, Program Manager, Jackson Airports District Office, 100 West Cross Street, Suite B, Jackson, MS 39208-2307, (601) 664-9885. The application may be reviewed in person at this same location.

SUPPLEMENTARY INFORMATION: The FAA proposes to rule and invites public comment on the application to impose and use the revenue from a PFC at Hattiesburg-Laurel Regional Airport under the provisions of the 49 U.S.C. 40117 and part 158 of the Federal Aviation Regulations (14 CFR part 158).

On September 17, 2003, the FAA determined that the application to impose and use the revenue from a PFC submitted by Hattiesburg-Laurel Regional Airport Authority was substantially complete within the requirements of § 158.25 of part 158. The FAA will approve or disapprove the application, in whole or in part, no later than January 13, 2004.

The following is a brief overview of the application.

Proposed charge effective date: April 1, 2004.

Proposed charge expiration date: April 1, 2006.

Level of the proposed PFC: $4.50.

Total estimated PFC revenue: $79,487.

Brief description of proposed project(s): Acquire air passenger boarding stairs, Expanding parking lot, Expand commercial apron, and Rehabilitate airport beacon and apron lights.

Class or classes of air carriers which the public agency has requested not be required to collect PFCs: None.

In additoin, any person may, upon request, inspect the application, notice and other documents germane to the application in person at the Hattiesburg-Laurel Regional Airport Authority.

Issued in Jackson, Mississippi on September 17, 2003.
Rans D. Black,
Manager, Jackson Airports District Office.

[FR Doc. 03-24432 Filed 9-25-03; 8:45 am]

BILLING CODE 4910-13-M